DEPARTMENT OF DEFENSE

Office of the Secretary

[Docket ID: DOD-2016-OS-0005]

Submission for OMB Review; Comment Request

ACTION: Notice.

SUMMARY: The Department of Defense has submitted to OMB for clearance, the following proposal for collection of information under the provisions of the Paperwork Reduction Act.

DATES: Consideration will be given to all comments received by November 7, 2016.

FOR FURTHER INFORMATION CONTACT: Fred Licari, 571-372-0493.

SUPPLEMENTARY INFORMATION:

Title, Associated Form and OMB Number: Family Member Travel Screening; DD Form X678 TEST, Screening Verification, DD Form X678-1TEST, Medical and Education Information, DD Form X678-2TEST, Dental Health Information, and DD Form X678-3TEST, Patient Care Review, DD Form X678-4 TEST, Administrative Review Checklist; OMB Control Number 0704-XXXX.

Type of Request: New.

Number of Respondents: 17,943.

Responses per Respondent: 1.

Annual Responses: 17,943.

Average Burden per Response: 15 minutes.

Annual Burden Hours: 4,617 hours.

Needs and Uses: The DD Forms DD Form X678 TEST X678-1 TEST, X678-2 TEST, X678-3 TEST, and DD Form X678-4 TEST are to be used during the Family Member Travel Screening (FMTS) process when active duty Service members with Permanent Change of Station (PCS) orders to OCONUS or remote installations request Command sponsorship for accompanied travel. These forms assist in determining the availability of care at a gaining installation by documenting any special medical, dental, and/or educational needs of dependents accompanying the Service member. Throughout the process, form respondents include: (1) Active duty Service members and/or dependents over the age of majority who provide demographic information; (2) medical and dental providers who provide information about dependent medical and dental needs; (3) losing FMTS Office staff who document any special medical, dental, and/or educational needs; and (4) gaining FMTS Office staff who document the availability of special needs support services at a gaining location.

Affected Public: Individuals or households; medical and dental providers.

Frequency: On occasion.

Respondent's Obligation: Mandatory.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: October 3, 2016.
Aaron Siegel,
Alternate OSD Federal Register Liaison Officer, Department of Defense.

[FR Doc. 2016-24199 Filed 10-5-16; 8:45 am]

BILLING CODE 5001-06-P